CONSUMER PRODUCT SAFETY COMMISSION

16 CFR Part 1500

Infant Bath Seats: Termination of Rulemaking

AGENCY: Consumer Product Safety Commission.

ACTION: Termination of rulemaking.

SUMMARY: In the Federal Register of December 29, 2003 (68 FR 74878), the Consumer Product Safety Commission (“Commission”) published a notice of proposed rulemaking under the Federal Hazardous Substances Act (“FHSA”) to reduce the unreasonable risk of injury associated with bath seats. On August 14, 2008, the Consumer Product Safety Improvement Act of 2008 (“CPSIA”) was enacted. Section 104(b) of the CPSIA requires the Commission to promulgate consumer product safety standards for durable infant or toddler products, which are to be “substantially the same as” applicable voluntary standards (or more stringent requirements if they would further reduce the risk of injury associated with the product). Elsewhere in this issue of the Federal Register, the Commission is proposing a safety standard for infant bath seats in response to section 104(b) of the CPSIA. The rulemaking initiated under the FHSA is superseded by section 104(b) of the CPSIA. Accordingly, the Commission has terminated the infant bath seat rulemaking initiated under the FHSA.

FOR FURTHER INFORMATION CONTACT: Patricia Edwards, Project Manager, Directorate for Engineering Sciences, Consumer Product Safety Commission, 4330 East West Highway, Bethesda, MD 20814; telephone (301) 504-7577; pedwards@cpsc.gov.

SUPPLEMENTARY INFORMATION:

A. The Product

Infant bath seats are used in a tub or sink to support a seated infant while he or she is being bathed. They are marketed for use with infants from the time they can sit up unassisted (about 5 months) to the time they begin pulling themselves up to a standing position (about 10 months).

B. Rulemaking Pursuant to the Federal Hazardous Substances Act (FHSA)

In response to a petition from the Consumer Federation of America and others in 2000, in the Federal Register of August 1, 2001, the Commission published an advance notice of proposed rulemaking (“ANPR”) (66 FR 39692) to begin a rulemaking proceeding concerning infant bath seats under the Federal Hazardous Substances Act (“FHSA”). On December 29, 2003, the Commission published a notice of proposed rulemaking (“NPR”) (68 FR 74878) proposing that bath seats meet specified requirements for stability, leg openings and labeling.

C. The Consumer Product Safety Improvement Act

The Consumer Product Safety Improvement Act of 2008 (“CPSIA”, Pub. L. 110-314) was enacted on August 14, 2008. Section 104(b) of the CPSIA requires the Commission to promulgate consumer product safety standards for durable infant or toddler products. These standards are to be “substantially the same as” applicable voluntary standards or more stringent than the voluntary standard if the Commission concludes that more stringent requirements would further reduce the risk of injury associated with the product. Section 104(b)(2) of the CPSIA directs the Commission to begin rulemaking for two standards by August 14, 2009. Elsewhere in this issue of the Federal Register, the Commission is issuing a proposed rule that would establish a safety standard for bath seats that is substantially the same as a voluntary standard developed by the American Society for Testing and Materials and designated as ASTM F 1967-08a, “Standard Consumer Safety Specification for Infant Bath Seats,” with some modifications to strengthen the ASTM standard.

D. Termination of the FHSA Rulemaking

The direction in section 104(b) of the CPSIA to the Commission to begin rulemaking for durable infant or toddler products, including bath seats, supersedes the bath seat rulemaking that the Commission began under the FHSA. Therefore, the Commission is terminating the FHSA bath seat proceeding that began on August 1, 2001 with the issuance of an ANPR.

Dated: August 25, 2009.
Todd Stevenson,
Secretary, U.S. Consumer Product Safety Commission.

[FR Doc. E9-20947 Filed 9-2-09; 8:45 am]

BILLING CODE 6355-01-P